DEPARTMENT OF HOMELAND SECURITY

U.S. Customs and Border Protection

Agency Information Collection Activities: Andean Trade Preferences

AGENCY: U.S. Customs and Border Protection (CBP), Department of Homeland Security.

ACTION: 60-Day notice and request for comments; Extension of an existing information collection: 1651-0091.

SUMMARY: As part of its continuing effort to reduce paperwork and respondent burden, CBP invites the general public and other Federal agencies to comment on an information collection requirement concerning the Andean Trade Preferences. This request for comment is being made pursuant to the Paperwork Reduction Act of 1995 (Pub. L. 104-13; 44 U.S.C. 3505(c)(2)).

DATES: Written comments should be received on or before January 28, 2011, to be assured of consideration.

ADDRESSES: Direct all written comments to U.S. Customs and Border Protection, Attn: Tracey Denning, Regulations and Rulings, Office of International Trade, 799 9th Street, NW., 5th Floor, Washington, DC. 20229-1177.

FOR FURTHER INFORMATION CONTACT: Requests for additional information should be directed to Tracey Denning, U.S. Customs and Border Protection, Regulations and Rulings, Office of International Trade, 799 9th Street, NW., 5th Floor, Washington, DC. 20229-1177, at 202-325-0265.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the request for Office of Management and Budget (OMB) approval. All comments will become a matter of public record. In this document the CBP is soliciting comments concerning the following information collection:

Title: Andean Trade Preferences.

OMB Number: 1651-0091.

Form Number: CBP Form 449.

Abstract: The information is to be used by CBP officers to document preferential tariff treatment under the provisions of the Andean Trade Preferences Act (ATPA) and the Andean Trade Promotion and Drug Eradication Act (ATPDEA), as codified in 19 U.S.C. 3201 through 3206. The ATPA Certificate of Origin format is found under the CBP Regulations, 19 CFR 10.201-10.207. The type of information collected includes the processing operations performed on articles, the material produced in a beneficiary country or in the U.S., and a description of those processing operations. The ATPDEA regulations are found in 19 CFR 10.251-10.257. Claims under ATPDEA are submitted using CBP Form 449. This form can be used only when claiming ATPDEA preferential treatment on the goods listed on the back of the form. CBP Form 449 can be found at: http://forms.cbp.gov/pdf/CBP_Form_449.pdf.

Current Actions: This submission is being made to extend the expiration date with no change to information collected or to CBP Form 449.

Type of Review: Extension (without change).

Affected Public: Businesses.

ATPA Certificate of Origin:

Estimated Number of Respondents: 2,133.

Estimated Number of Annual Responses per Respondent: 2.

Estimated Number of Total Annual Responses: 4,266.

Estimated Time per Response: 10 minutes.

Estimated Total Annual Burden Hours: 712.

ATPDEA Certificate of Origin:

Estimated Number of Respondents: 233.

Estimated Number of Annual Responses per Respondent: 7.

Estimated Number of Total Annual Responses: 1,631.

Estimated Time per Response: 30 minutes.

Estimated Total Annual Burden Hours: 815.

Dated: November 23, 2010.
Tracey Denning,
Agency Clearance Officer, U.S. Customs and Border Protection.

[FR Doc. 2010-29981 Filed 11-26-10; 8:45 am]

BILLING CODE 9111-14-P